SECURITIES AND EXCHANGE COMMISSION

[File No. 500-1]

Aqua Society, Inc., Centurion Gold Holdings, Inc., and PowerRaise, Inc.; Order of Suspension of Trading

July 13, 2011.

It appears to the Securities and Exchange Commission that there is a lack of current and accurate information concerning the securities of Aqua Society, Inc. because it has not filed any periodic reports since the period ended June 30, 2007.

It appears to the Securities and Exchange Commission that there is a lack of current and accurate information concerning the securities of Centurion Gold Holdings, Inc. because it has not filed any periodic reports since the period ended December 31, 2005.

It appears to the Securities and Exchange Commission that there is a lack of current and accurate information concerning the securities of PowerRaise, Inc. because it has not filed any periodic reports since the period ended September 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on July 13, 2011, through 11:59 p.m. EDT on July 26, 2011.

By the Commission.
Jill M. Peterson,
Assistant Secretary.

[FR Doc. 2011-17972 Filed 7-13-11; 4:15 pm]

BILLING CODE 8011-01-P